DEPARTMENT OF THE INTERIOR

Fish and Wildlife Service

Recovery Plan for the Kauai Cave Arthropods: The Kauai Cave Wolf Spider (Adelocosa anops) and the Kauai Cave Amphipod (Spelaeorchestia koloana)

AGENCY: Fish and Wildlife Service, Interior.

ACTION: Notice of document availability.

SUMMARY: We, the U.S. Fish and Wildlife Service, announce the availability of the Recovery Plan for the Kauai Cave Arthropods: the Kauai Cave Wolf Spider (Adelocosa anops) and the Kauai Cave Amphipod (Spelaeorchestia koloana). These cave arthropods are listed as endangered and are endemic to the Hawaiian Island of Kauai.

ADDRESSES: Copies of the recovery plan are available by request from the U.S. Fish and Wildlife Service, Pacific Islands Fish and Wildlife Office, 300 Ala Moana Boulevard, Room 3-122, Box 50088, Honolulu, Hawaii 96850 (telephone: 808/792-9400) and Hawaii State Library 478 S. King Street, Honolulu, Hawaii 96813. An electronic copy of the Recovery Plan is available on the World Wide Web at: http://endangered.fws.gov/recovery/index.html#plans.

FOR FURTHER INFORMATION CONTACT: Lorena Wada, Invertebrate Program Supervisor, at the above Honolulu address.

SUPPLEMENTARY INFORMATION:

Background

Restoring endangered or threatened animals and plants to the point where they are again secure, self-sustaining members of their ecosystems is a primary goal of our endangered species program. The Endangered Species Act (16 U.S.C. 1531 et seq.) (Act) requires the development of recovery plans for listed species unless such a plan would not promote the conservation of a particular species. Recovery plans help guide the recovery effort by describing actions considered necessary for the conservation of the species, establishing criteria for downlisting or delisting listed species, and estimating time and cost for implementing the measures needed for recovery.

Section 4(f) of the Act requires that public notice and an opportunity for public review and comment be provided during recovery plan development. In fulfillment of this requirement, the Draft Recovery Plan for the Kauai Cave Arthropods: The Kauai Cave Wolf Spider (Adelocosa anops) and the Kauai Cave Amphipod (Spelaeorchestia koloana) was available for public comment from February 9, 2005, through April 11, 2005 (70 FR 6902). Information presented during the public comment period has been considered in the preparation of this final recovery plan, and is summarized in the appendix to the recovery plan. We will forward substantive comments regarding recovery plan implementation to appropriate Federal or other entities so that they can take these comments into account during the course of implementing recovery actions.

Two species of cave arthropods, the Kauai cave wolf spider and the Kauai cave amphipod, collectively the Kauai cave arthropods, are only known from a small number of caves in the Koloa District on the island of Kauai. Of the caves surveyed to date, the cave wolf spider has only been documented to occur in five caves, and currently is only observed regularly in one of these caves. The cave amphipod has been documented to occur in eight caves, and is currently observed regularly in three of them.

The primary threats to these species include: the potential for significant population impact from a signal event due to small populations and restricted range; urban and agricultural development as well as quarrying operations; non-native species preying upon or competing with them for limited food resources; human visitation and uses of caves; urban and commercial pesticide use; bio-control agents; and extended drought which alters the high-humidity environment to which these arthropods are adapted, which also facilitates invasion by non-native species.

The objective of this recovery plan is to provide a framework for the recovery of the Kauai cave arthropods so that protection by the Act is no longer necessary. Actions necessary to accomplish this objective include: (1) Protecting known populations of the Kauai cave wolf spider and cave amphipod and their subterranean systems from human-caused destruction or degradation; (2) improving or enhancing the habitat of occupied caves or caves previously occupied through protection of above-cave habitats and implementation of landscaping actions that are likely to increase subterranean food resources; (3) conducting research to address essential conservation needs for the species; (4) providing information for the public on the Kauai cave arthropods; and (5) using initial recovery efforts and research to periodically validate recovery objectives.

Authority: The authority for this action is section 4(f) of the Endangered Species Act, 16 U.S.C. 1533(f).

Dated: April 28, 2006.
David J. Wesley,
Acting Regional Director, Region 1, U.S. Fish and Wildlife Service.

[FR Doc. E6-11466 Filed 7-18-06; 8:45 am]

BILLING CODE 4310-55-P